NATIONAL SCIENCE FOUNDATION

Sunshine Act Meetings; National Science Board

The National Science Board, pursuant to NSF regulations (45 CFR part 614), the National Science Foundation Act, as amended (42 U.S.C. 1862n-5), and the Government in the Sunshine Act (5 U.S.C. 552b), hereby gives notice of the scheduling of meetings for the transaction of National Science Board business, as follows:

DATE AND TIME: November 18, 2015 from 8 a.m. to 5 p.m. and November 19, 2015 from 8:30 a.m. to 2:10 p.m. (EST).

PLACE: These meetings will be held at the National Science Foundation, 4201Wilson Blvd., Room 1235, Arlington, VA 22230. All visitors must contact the Board Office (call 703-292-7000 or send an email message to nationalsciencebrd@nsf.gov) at least 24 hours prior to the meeting and provide name and organizational affiliation. Visitors must report to the NSF visitor desk located in the lobby at the 9th and N. Stuart Streets entrance to receive a visitor's badge.

WEBCAST INFORMATION: Public meetings and public portions of meetings will be webcast. To view the meetings, go to http://www.tvworldwide.com/events/nsf/151118/ and follow the instructions.

UPDATES: Please refer to the National Science Board Web site for additional information. Meeting information and schedule updates (time, place, subject matter or status of meeting) may be found at http://www.nsf.gov/nsb/meetings/notices.jsp.

AGENCY CONTACT: Ron Campbell, jrcampbe@nsf.gov, (703) 292-7000.

PUBLIC AFFAIRS CONTACT: Nadine Lymn, nlymn@nsf.gov, (703) 292-2490.

STATUS: Portions open; portions closed.

OPEN SESSIONS:

November 18, 2015

8-8:30 a.m. (Plenary introduction, Chair and Director Reports)

8:30-9 a.m. (AO)

9:55-11:55 a.m. (CPP)

12:55-2 p.m. (SEI)

November 19, 2015

8:30-9:15 a.m. (AB)

9:15-9:35 a.m. (SCF)

9:35-10:10 a.m. (CSB)

11:50 a.m.-12:10 p.m. (NPP)

1:10-1:55 p.m. (CEH)

1:55-2:10 p.m. (Plenary)

CLOSED SESSIONS:

November 18, 2015

9-9:45 a.m. (AO)

2-2:45 p.m. (NPP)

3-3:50 p.m. (CPP)

3:50-4:30 p.m. (Plenary closed)

4:30-5 p.m. (Plenary executive closed)

November 19, 2015

10:20-11:50 a.m. (CPP/SCF joint meeting)

MATTERS TO BE DISCUSSED:

Wednesday, November 18, 2015

Plenary Board Meeting

Open Session: 8-8:30 a.m.

• Introduction and NSB Chair's Report

• NSF Director's Report

Committee on Audit & Oversight (AO)

Open Session: 8:30-9 a.m.

• AO Chair's opening remarks

• Approval of August 2015 open meeting minutes

• Approval of OIG Semiannual Report to Congress

• Inspector General's update

• Chief Financial Officer's update

• AO Chair's closing remarks

Audit and Oversight Committee

Closed Session: 9-9:45 a.m.

• AO Chair's opening remarks

• Approval of August 2015 closed AO meeting minutes

• Report on status of National Academy of Public Administration (NAPA) study

• AO Chair's closing remarks

Committee on Programs and Plans (CPP)

Open Session: 9:55-11:55 a.m.

• CPP Chair's opening remarks

○ Update: CY 2015 schedule of planned action and information items; update for the August 2015 meeting

○ CY 2016 Schedule of Planned Action and Information Items

○ Update: National Nanotechnology Coordinated Infrastructure (NNCI)

○ iPlant Status update

• Approval of open CPP meeting minutes for the August 2015 meeting

• Overview of Geosciences Infrastructure Investments: Status and Timelines

• Information Item: High Performance Computing (HPC)

• NSB Recompetition Policy and Statement

• Report on NSB Antarctic Site Visit

• CPP Chair's closing remarks

Committee on Science & Engineering Indicators (SEI)

Open Session: 12:55-2 p.m.

• SEI Chair's opening remarks

• Approval of the open SEI August 2015 meeting minutes

• Discussion and approval of the 2016 Overview and Digest

• Update on the 2016 digital Indicators

• Discussion of `companion briefs' (formerly `vignettes')

• Discussion of Indicators future directions: possible 2016 workshop

• SEI Chair's closing remarks

Ad hoc Task Force on NEON Performance and Plans (NPP)

Closed Session: 2-2:45 p.m.

• NPP Chair's opening remarks

• Approval of closed teleconference minutes of October 8 and October 23, 2015

• NSF Director's update on NEON

• Update on NPP Task Force activities and next steps

• NPP Chair's closing remarks

Committee on Programs and Plans (CPP)

Closed Session: 3-3:50 p.m.

• CPP Chair's opening remarks

• Approval of closed CPP minutes for August 2015 meeting

• Action Item: National Radio Astronomy Observatory (NRAO)

• CPP Chair's closing remarks

Plenary Board Meeting

Closed Session: 3:50-4:30 p.m.

• NSB Chair's opening remarks

• Approval of closed plenary minutes for August 2015

• Approval of NRAO preliminary resolution

• NSF Director's report

• Closed committee reports

• NSB Chair's closing remarks

Plenary Board Meeting

Executive Closed Session: 4:30-5 p.m.

• NSB Chair's opening remarks

• Approval of executive closed session minutes for August 2015

• Elect four members to the Elections Committee (to nominate candidates for May 2016 elections of NSB Chair, Vice-Chair, and two Executive Committee members)

• Approval of Honorary Awards recommendations

• Report from the NOMS Committee

• Board member NSF grant awards

• NSB Chair's closing remarks

MATTERS TO BE DISCUSSED:

Thursday, November 19, 2015

Working Group on Administrative Burdens (AB)

Open Session: 8:30-9:15 a.m.

• AB Working Group Chair's opening remarks

• Approval of open AB working group minutes for August 2015

• Discussion of National Academies of Science Report

• AB Working Group Chair's closing remarks

Subcommittee on Facilities (SCF)

Open Session: 9:15-9:35 a.m.

• SCF Chair's opening remarks

• Approval of open SCF teleconference minutes from November 2, 2015

• Discussion of SCF's role and charge

• SCF Chair's closing remarks

Committee on Strategy and Budget (CSB)

Open Session: 9:35-10:10 a.m.

• CSB Chair's opening remarks

• Approval of CSB open minutes for the August 2015 meeting

• Approval of the 2014 Annual Portfolio Review

• Information Item: NSF International Strategy

CPP/SCF Joint Meeting

10:20-11:50 a.m.

• CPP Chair's opening remarks

• Discussion: The Evolving Needs of Science and Engineering Infrastructure

• Antarctic Infrastructure Modernization for Science (AIMS) update

Ad hoc Task Force on NEON Performance and Plans (NPP)

Open Session: 11:50 a.m.-12:10 p.m.

• NPP Chair's opening remarks

• NPP Chair's report on NPP activities

• Discussion: New NSB product for monitoring large facilities

Committee on Education and Human Resources (CEH)

Open Session: 1:10-1:55 p.m.

• CEH Chair's opening remarks

• Approval of CEH open minutes for the August 2015 meeting

• Vision and plan for grand challenges in STEM education

• CEH Chair's closing remarks

Plenary Board Meeting

Open Session: 1:55-2:10 p.m.

• NSB Chair's opening remarks

• NSF Director's remarks

• Approval of plenary open session minutes for August 2015 meeting

• Approval of the 2014 Annual Portfolio Review

• Confirm ad hoc Honorary Awards Committee as a standing committee

• Approval of the 2016 SEI Overview and Digest

• Approval of the OIG Semiannual Report to Congress

• Open committee reports

• NSB Chair's closing remarks

MEETING ADJOURNS: 2:10 p.m.

Kyscha Slater-Williams,
Program Specialist, National Science Board.

[FR Doc. 2015-29167 Filed 11-10-15; 4:15 pm]

BILLING CODE 7555-01-P